INTERNATIONAL TRADE COMMISSION

[Investigation No. 731-TA-299 (Third Review); (Investigation Nos. 701-TA-267 and 731-TA-304 (Third Review)]

Porcelain-on-Steel Cooking Ware From Taiwan; Top-of-the-Stove Stainless Steel Cooking Ware From Korea

AGENCY: United States International Trade Commission.

ACTION: Termination of five-year reviews.

SUMMARY: The subject five-year reviews were initiated in October 2010 to determine whether revocation of the antidumping duty order on imports of porcelain-on-steel cooking ware from Taiwan and the antidumping and countervailing duty orders on imports of top-of-the-stove stainless steel cooking ware from Korea would be likely to lead to continuation or recurrence of material injury. On December 29, 2010, the Department of Commerce published notice that it was revoking the orders “[b]ecause no domestic interested party responded to the sunset review notice of initiation by the applicable deadline * * *” The effective date of the revocation of the antidumping duty order on imports of top-of-the-stove stainless steel cooking ware from Korea is November 17, 2010. The effective date of the revocation of the antidumping duty order on imports of porcelain-on-steel cooking ware from Taiwan and the countervailing duty order on imports of top-of-the-stove stainless steel cooking ware from Korea is November 22, 2010. Accordingly, pursuant to section 751(c) of the Tariff Act of 1930 (19 U.S.C. 1675(c)), the subject reviews are terminated.

DATES: Effective Dates:

November 17, 2010: Top-of-the-Stove Stainless Steel Cooking Ware from Korea (Investigation No. 731-TA-304 (Third Review))

November 22, 2010: Porcelain-on-Steel Cooking Ware from Taiwan (Investigation No. 731-TA-299 (Third Review)) and Top-of-the-Stove Stainless Steel Cooking Ware from Korea (Investigation No. 701-TA-267 (Third Review))

FOR FURTHER INFORMATION CONTACT: Mary Messer (202-205-3193), Office of Investigations, U.S. International Trade Commission, 500 E Street, SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov).

Authority: These reviews are being terminated under authority of title VII of the Tariff Act of 1930; this notice is published pursuant to section 207.69 of the Commission's rules (19 CFR 207.69).

By order of the Commission.
Issued: January 10, 2011.
Marilyn R. Abbott,
Secretary to the Commission.

[FR Doc. 2011-706 Filed 1-13-11; 8:45 am]

BILLING CODE 7020-02-P